FEDERAL MARITIME COMMISSION

46 CFR Parts 501 and 502

[Docket No. 05-01]

Agency Reorganization and Delegations of Authority

AGENCY: Federal Maritime Commission (FMC).

ACTION: Final rule; corrections.

SUMMARY: This document corrects the regulations in §§ 501.26(a)(8), 502.271(f)(1), and 502.401 of 46 CFR Parts 501 and 502 of the Final Rule published on February 15, 2005. These revisions to the regulations are non-substantive and no public comments on the Final Rule are necessary.

DATES: Effective August 4, 2005.

FOR FURTHER INFORMATION CONTACT: Amy W. Larson, General Counsel, Federal Maritime Commission, 800 North Capitol Street, NW., Room 1018, Washington, DC 20573-0001, (202) 523-5740, E-mail: GeneralCounsel@fmc.gov.

SUPPLEMENTARY INFORMATION: On February 15, 2005, the Federal Maritime Commission (“FMC” or “Commission”) adopted a Final Rule to amend its regulations in 46 CFR Part 501 to reflect the reorganization of the agency that took effect on August 23, 2004. This Rule also made nomenclature changes in certain CFR units to reflect changes in relevant Commission bureau names. This revision corrects errors in the regulations, which were not detected in the course of preparing the Final Rule for publication. The revisions are non-substantive in nature, therefore, no public comments on the Final Rule are necessary.

Therefore, for the reasons set forth above, the following sections in the regulations of Parts 501 and 502 have been amended.

List of Subjects

46 CFR Part 501

Administrative practice and procedure, Authority delegations (Government agencies), Organization and functions (Government agencies), Seals and insignia.

46 CFR Part 502

Administrative practice and procedure, Claims, Equal access to justice, Investigations, Lawyers, Maritime carriers, Penalties, Reporting and recordkeeping requirements.

PART 501—THE FEDERAL MARITIME COMMISSION—GENERAL

1. The authority citation for part 501 continues to read as follows:

Authority: 5 U.S.C. 551-557, 701-706, 2903, and 6304; 31 U.S.C. 3721; 41 U.S.C. 414 and 418; 44 U.S.C. 501-520 and 3501-3520; 46 U.S.C. app. 876, 1111, and 1701-1720; Reorganization Plan No. 7 of 1961, 26 FR 7315, August 12, 1961; Pub. L. 89-56, 70 Stat. 195; 5 CFR Part 2638; Pub. L. 89-777, 80 Stat. 1356; Pub. L. 104-320, 110 Stat. 3870.

§ 501.26 [Corrected]

2. Amend § 501.26(a)(8), by removing the words “Bureau of Consumer Complaints and Licensing,” and adding, in their place, the words “Bureau of Certification and Licensing.”

PART 502—RULES OF PRACTICE AND PROCEDURE

3. The authority citation for part 502 continues to read as follows:

Authority: 5 U.S.C. 504, 551, 552, 553, 556(c), 559, 561-569, 571-596; 5 U.S.C. 571-584; 12 U.S.C. 1141j(a); 18 U.S.C. 207; 26 U.S.C. 501(c)(3); 28 U.S.C. 2112(a); 31 U.S.C. 9701; 46 U.S.C. app. 817d, 817e, 1114(b), 1705, 1707-1711, 1713-1716; E.O. 11222 of May 8, 1965, 30 FR 6469, 3 CFR, 1964-1965 Comp. P. 306; 21 U.S.C. 853a; Pub. L. 105-258, 112 Stat. 1902.

§ 502.271 [Corrected]

4. Amend § 502.271(f)(1), by removing the words “Office of Consumer Complaints, in the Bureau of Certification and Licensing” and adding, in their place, the words “Office of Consumer Affairs and Dispute Resolution Services.”

§ 502.401 [Corrected]

5. Amend § 502.401, by removing the words “Bureau of Certification and Licensing” and adding, in their place, “Office of Consumer Affairs and Dispute Resolution Services.”

Bryant L. VanBrakle,
Secretary.

[FR Doc. 05-15339 Filed 8-3-05; 8:45 am]

BILLING CODE 6730-01-P